DEPARTMENT OF AGRICULTURE

Agricultural Marketing Service

7 CFR Part 1210

[Docket No. FV-01-704-610 REVIEW]

Watermelon Research and Promotion Plan; Section 610 Review

AGENCY: Agricultural Marketing Service, USDA.

ACTION: Review of the Watermelon Research and Promotion Plan.

SUMMARY: This action summarizes the results of a review of the Watermelon Research and Promotion Plan (Plan) by the U.S. Department of Agriculture's, (Department), Agricultural Marketing Service (AMS) under the criteria contained in section 610 of the Regulatory Flexibility Act (RFA). Based upon its review, AMS has determined that the Plan should be continued without change.

ADDRESSES: Interested persons may obtain a copy of the review. Requests for copies should be sent to the Docket Clerk, Research and Promotion, Fruit and Vegetable Programs, Agricultural Marketing Service, USDA, Stop 0244, Room 2535-S, 1400 Independence Avenue, SW., Washington, DC 20250-0244; telephone (202) 720-9915; Fax (202) 205-2800; or E-mail: Daniel.manzoni@usda.gov.

FOR FURTHER INFORMATION CONTACT: Margaret Irby, Research and Promotion Branch, Fruit and Vegetable Programs, AMS, USDA, Stop 0244, 1400 Independence Avenue, SW., Room 2535-S, Washington, DC 20250-0244; telephone (202) 720-9915; Fax (202) 205-2800; or E-mail: margaret.irby@usda.gov.

SUPPLEMENTARY INFORMATION: The Plan [7 CFR Part 1210] is authorized under the Watermelon Research and Promotion Act (Act), as amended, [7 U.S.C. 4901-4916].

Under the Plan, the National Watermelon Promotion Board (Board) collects assessments on watermelons produced in or imported into the United States to carry out coordinated programs of research, development, advertising, and promotion designed to strengthen, maintain, and expand domestic and foreign markets for watermelons.

AMS published in the Federal Register [63 FR 8014; February 18, 1999] its plan to review certain regulations, including the Plan, under the criteria contained in § 610 of the Regulatory Flexibility Act (RFA) [5 U.S.C. 601-612]. An updated Plan was published in the Federal Register on January 4, 2002 [67 FR 525].

AMS published a notice of review and request for written comments on the Plan in the March 17, 2000, issue of the Federal Register [65 FR 14485]. No written comments were received.

The review was undertaken to determine whether the Plan should be continued without change, amended, or rescinded (consistent with the objectives of the Act) to minimize the impacts on small entities. In conducting this review, AMS considered the following factors: (1) The continued need for the Plan; (2) the nature of complaints or comments received from the public concerning the Plan; (3) the complexity of the Plan; (4) the extent to which the Plan overlaps, duplicates, or conflicts with other Federal rules, and, to the extent feasible, with State and local governmental rules; and (5) the length of time since the Plan has been evaluated or the degree to which technology, economic conditions, or other factors have changed in the area affected by the Plan.

Currently, there are 2,200 producers, 620 handlers, and 280 importers covered under the Plan. Producers of less than 10 acres and importers of less than 150,000 pounds of watermelons annually are exempt.

AMS provides federal oversight of the watermelon research and promotion program. The Plan is not unduly complex, and AMS has not identified any federal rules, or State and local regulations that duplicate, overlap, or conflict with the Plan. Over the years, regulation changes have been made to address industry operation changes and to improve program administration. The goal of these evaluations is to assure that the Plan and the regulations implemented under it fit the needs of the industry and are consistent with the Act. With the exception of a challenge concerning the constitutionality of assessments for promotion under the Plan, which the Department is currently defending, AMS has not received complaints about the Plan.

Based upon it review, AMS has determine that the Plan should be continued without change. AMS plans to continue working with the watermelon industry in maintaining an effective program.

Dated: September 22, 2003.
A.J. Yates,
Administrator, Agricultural Marketing Service.

[FR Doc. 03-24351 Filed 9-25-03; 8:45 am]

BILLING CODE 3410-02-P